DEPARTMENT OF HEALTH AND HUMAN SERVICES

Health Resources and Services Administration

Agency Information Collection Activities: Submission to OMB for Review and Approval; Public Comment Request; Information Collection Request Title: Application and Other Forms Utilized by the National Health Service Corps (NHSC) Scholarship Program (SP), the NHSC Students To Service Loan Repayment Program (S2S LRP), and the Native Hawaiian Health Scholarship Program (NHHSP), OMB No. 0915-0146—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than July 17, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Application and Other Forms Utilized by the National Health Service Corps (NHSC) Scholarship Program (SP), the NHSC Students to Service Loan Repayment Program (S2S LRP), and the Native Hawaiian Health Scholarship Program (NHHSP), OMB No. 0915-0146—Revision

Abstract: Administered by HRSA's Bureau of Health Workforce (BHW), the NHSC SP, NHSC S2S LRP, and the NHHSP provide scholarships or loan repayment to qualified students who are pursuing primary care health professions education and training. In return, students agree to provide primary health care services in medically underserved communities located in federally designated Health Professional Shortage Areas once they are fully trained and licensed health professionals. Awards are made to applicants who demonstrate the greatest potential for successful completion of their education and training as well as commitment to provide primary health care services to communities of greatest need. The information from program applications, forms, and supporting documentation is used to select the best qualified candidates for these competitive awards, and to monitor program participants' enrollment in school, postgraduate training, and compliance with program requirements. The revisions to this information collection request include the removal of two forms for the NHSC S2S LRP application section.

Although some program forms vary from program to program (see program-specific burden charts below), required forms generally include: A program application, academic and non-academic letters of recommendation, the authorization to release information, and the acceptance/verification of good standing report. Additional forms for the NHSC SP include the data collection worksheet, which is completed by the educational institutions of program participants; the post graduate training verification form (also applicable for NHSC S2S LRP participants), which is completed by program participants and their residency director; and the enrollment verification form, which is completed by program participants and the educational institution for each academic term.

Need and Proposed Use of the Information: The NHSC SP, S2S LRP, and NHHSP applications, forms, and supporting documentation are used to collect necessary information from applicants that will enable BHW to make selection determinations for the competitive awards, and to monitor compliance with program requirements.

Likely Respondents: Qualified students who are pursuing education and training in primary care health professions education and training, and are interested in working in health professional shortage areas.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The revision contributes to a reduction of burden of approximately 100 hours. The total annual burden hours estimated for this ICR are summarized in the table below.

Total Estimated Annualized Burden—Hours

NHSC Scholarship Program Application
Form name | Number of respondents | Number of responses per respondent | Total responses | Average burden per response (in hours) | Total burden hours
NHSC Scholarship Program Application | 1,800 | 1 | 1,800 | 2.0 | 3,600
Letters of Recommendation | 1,800 | 2 | 3,600 | .50 | 1,800
Authorization to Release Information | 1,800 | 1 | 1,800 | .10 | 180
Acceptance/Verification of Good Standing Report | 1,800 | 1 | 1,800 | .25 | 450
Receipt of Exceptional Financial Need Scholarship | 200 | 1 | 200 | .25 | 50
Verification of Disadvantaged Background Status | 300 | 1 | 300 | .25 | 75
Total | * 1,800 |  | 9,500 |  | 6,155
* Certain documents are submitted by a subset of respondents consistent with program requirements.

NHSC Awardees/Schools/Post Graduate Training Programs/Sites
Form name | Number of respondents | Number of responses per respondent | Total responses | Average burden per response (in hours) | Total burden hours
Data Collection Worksheet | 400 | 1 | 400 | 1.0 | 400
Post Graduate Training Verification Form | 100 | 1 | 100 | .50 | 50
Enrollment Verification Form | 600 | 2 | 1,200 | .50 | 600
Total | * 600 |  | 1,700 |  | 1,050
* Please note that the same group of respondents may complete each form as necessary.

NHSC Students To Service Loan Repayment Program Application
Form name | Number of respondents | Number of responses per respondent | Total responses | Average burden per response (in hours) | Total burden hours
NHSC Students to Service Loan Repayment Program Application | 100 | 1 | 100 | 2.0 | 200
Letters of Recommendation | 100 | 2 | 200 | .50 | 100
Authorization to Release Information | 100 | 1 | 100 | .10 | 10
Acceptance/Verification of Good Standing Report | 100 | 1 | 100 | .25 | 25
Verification of Disadvantaged Background Status | 25 | 1 | 25 | .25 | 6.25
Total | * 150 |  | 525 |  | 341.25
* Certain documents are submitted by a subset of respondents consistent with program requirements.

Native Hawaiian Health Scholarship Program Application
Form name | Number of respondents | Number of responses per respondent | Total responses | Average burden per response (in hours) | Total burden hours
Native Hawaiian Health Scholarship Program Application | 250 | 1 | 250 | 1.0 | 250
Letters of Recommendation | 250 | 2 | 500 | .25 | 125
Authorization to Release Information | 250 | 1 | 250 | .25 | 62.50
Acceptance/Verification of Good Standing Report | 30 | 12 | 360 | .25 | 90
Total | * 250 |  | 1,360 |  | 527.50
* Certain documents are submitted by a subset of respondents consistent with program requirements.

Jason E. Bennett,
Director, Division of the Executive Secretariat.

[FR Doc. 2017-12382 Filed 6-14-17; 8:45 am]

BILLING CODE 4165-15-P